INTERNATIONAL TRADE COMMISSION

[Investigation No. 337-TA-1074]

Certain Industrial Automation Systems and Components Thereof Including Control Systems, Controllers, Visualization Hardware, Motion and Motor Control Systems, Networking Equipment, Safety Devices, and Power Supplies; Institution of Investigation

AGENCY: U.S. International Trade Commission.

ACTION: Notice.

SUMMARY: Notice is hereby given that a complaint was filed with the U.S. International Trade Commission on September 6, 2017, under section 337 of the Tariff Act of 1930, as amended, on behalf of Rockwell Automation, Inc. of Milwaukee, Wisconsin. A supplement to the complaint was filed on September 29, 2017. The complaint alleges violations of section 337 based upon the importation into the United States, the sale for importation, and the sale within the United States after importation of certain industrial automation systems and components thereof including control systems, controllers, visualization hardware, motion and motor control systems, networking equipment, safety devices, and power supplies, by reason of infringement of U.S. Trademark Reg. No. 1,172,995 (“the '995 trademark”); U.S. Trademark Reg. No. 696,401 (“the '401 trademark”); U.S. Trademark Reg. No. 693,780 (“the '780 trademark”); U.S. Trademark Reg. No. 1,172,994 (“the '994 trademark”); U.S. Trademark Reg. No. 712,800 (“the '800 trademark”); U.S. Trademark Reg. No. 712,836 (“the '836 trademark”); U.S. Trademark Reg. No. 2,510,226 (“the '226 trademark”); U.S. Trademark Reg. No. 2,671,196 (“the '196 trademark”); U.S. Trademark Reg. No. 2,701,786 (“the '786 trademark”); U.S. Trademark Reg. No. 2,412,742 (“the '742 trademark”); U.S. Copyright Reg. No. TX0008389890 (“the '890 copyright”); U.S. Copyright Reg. No. TX0008389887 (“the '887 copyright”); U.S. Copyright Reg. No. TX0008390098 (“the '098 copyright)”; U.S. Copyright Reg. No. TX0008390094 (“the '094 copyright”); U.S. Copyright Reg. No. TX0008390077 (“the '077 copyright”); U.S. Copyright Reg. No. TX0008390088 (“the '088 copyright”); U.S. Copyright Reg. No. TX0008390116 (“the '116 copyright”); U.S. Copyright Reg. No. TX0008390084 (“the '084 copyright”); U.S. Copyright Reg. No. TX0008390111 (“the '111 copyright”); and U.S. Copyright Reg. No. TX0008390091 (“the '091 copyright”). The complaint also alleges that an industry in the United States exists as required by the applicable Federal Statute. The Complaint further alleges a violation of Section 337 based on unfair methods of competition and unfair acts in the importation or sale of certain industrial automation systems and components thereof including control systems, controllers, visualization hardware, motion and motor control systems, networking equipment, safety devices, and power supplies, the threat or effect of which is to destroy or substantially injure an industry in the United States.

The complainant requests that the Commission institute an investigation and, after the investigation, issue a general exclusion order and cease and desist orders.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337 and in section 210.10 of the Commission's Rules of Practice and Procedure, 19 CFR 210.10 (2017).

Scope of Investigation: Having considered the complaint, the U.S. International Trade Commission, on October 6, 2017, ordered that—

(1) Pursuant to subsection (b) of section 337 of the Tariff Act of 1930, as amended, an investigation be instituted to determine:

(a) Whether there is a violation of subsection (a)(1)(C) of section 337 in the importation into the United States, the sale for importation, or the sale within the United States after importation of certain industrial automation systems and components thereof including control systems, controllers, visualization hardware, motion and motor control systems, networking equipment, safety devices, and power supplies, by reason of infringement of the '995 trademark; the '401 trademark; the '780 trademark; the '994 trademark; the '800 trademark; the '836 trademark; the '226 trademark; the '196 trademark; the '786 trademark; and the '742 trademark; and whether an industry in the United States exists as required by subsection (a)(2) of section 337;

(b) whether there is a violation of subsection (a)(1)(B) of section 337 in the importation into the United States, the sale for importation, or the sale within the United States after importation of certain industrial automation systems and components thereof including control systems, controllers, visualization hardware, motion and motor control systems, networking equipment, safety devices, and power supplies, by reason of infringement of the '890 copyright; the '887 copyright; the '098 copyright; the '094 copyright; the '077 copyright; the '088 copyright; the '116 copyright; and the '111 copyright; and

(c) whether there is a violation of subsection (a)(1)(A) in the importation or sale of certain industrial automation systems and components thereof including control systems, controllers, visualization hardware, motion and motor control systems, networking equipment, safety devices, and power supplies, by reason of unfair methods of competitions and unfair acts, the threat or effect of which is to destroy or substantially injure an industry in the United States;

(2) Pursuant to Commission Rule 210.50(b)(1), 19 CFR 210.50(b)(1), the presiding Administrative Law Judge shall take evidence or other information and hear arguments from the parties or other interested persons with respect to the public interest in this investigation, as appropriate, and provide the Commission with findings of fact and a recommended determination on this issue, which shall be limited to the statutory public interest factors set forth in 19 U.S.C. 1337(d)(1), (f)(1), (g)(1);

(3) For the purpose of the investigation so instituted, the following are hereby named as parties upon which this notice of investigation shall be served:

(a) The complainant is: Rockwell Automation, Inc., 1201 South 2nd Street, Milwaukee, WI 53204-2410.

(b) The respondents are the following entities alleged to be in violation of section 337, and are the parties upon which the complaint is to be served:

Can Electric Limited, No. 2 Danan Rd, Yuexiu District, Guangzhou, Guangdong, 510115, China

Capnil (HK) Company Limited, Unit 603 6/F Koon Wah Mirrow, Factory 3 Ind Bldg 5-9 Ka Hing, Rd Kln Hk, Hong Kong

Fractioni (Hongkong) Ltd., #327 Siping Road, Shanghai 200092, China

Fujian Dahong Trade Co., Ltd, A15-2303 Taihongyu Pushang Road, Cangshan Fuzhou Fujian, Fujian 350008, China

GreySolution Limited d/b/a Fibica, Unit B601, 6/F Block A, Universal Ind. Ctr., 19-25 Shan Mei St Sha Tin, Fo Tan, Hong Kong

Huang Wei Feng d/b/a A-O-M Industry, Room 201 No. 55 2 Qu, Tangshuiwei, Minzhi, Longhua, Boa'An, Shenzhen 511700, China

KBS Electronics Suzhou Co, Ltd., Block 7&43, No. 328 Hengyong Road, Jiading district, Shanghai, China, 201806

PLC-VIP Shop d/b/a VIP Tech Limited, 95 Fuk Wing Street, Cheung Sha Wan, Kowloon, Hong Kong

Radwell International, Inc. d/b/a PLC Center, 1 Millennium Drive, Willingboro, NJ 08046

Shanghai EuoSource Electronic Co., Ltd, Block 43, No. 328, Hengyong Road, Jiading District, Shanghai, China 201806

ShenZhen T-Tide Trading co., Ltd., Room A-60S, Block.lexi., Minle Industrial Park, Mei Ban Road, Longhua District, Shenzhen 518031, China

SoBuy Commercial (HK) Co. Limited, Flat B G/F Yeung Yiu Chung (No. 6), Ind. Bldg. No. 19 Cheung Shun Street, Lai Chi Kok Kowloon, Hong Kong

Suzhou Yi Micro Optical Co., Ltd., d/b/a Suzhou Yiwei Guangxue Youxiangongsi, d/b/a Easy Micro-optics Co. LTD., Office Building 5F, 91 Weixin Rd, Suzhou, SIP, Jiangsu, China, 215021

Wenzhou Sparker Group Co. Ltd., d/b/a Sparker Instruments, Room 503, Oujiang Masion, Wenzhou Road, Wenzhou, 325000, China

Yaspro Electronics (Shanghai) Co., Ltd., Room 1808E, No. 488, Vaohua Road, Pudong New District, Shanghai, China

(c) The Office of Unfair Import Investigations, U.S. International Trade Commission, 500 E Street SW., Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: October 10, 2017.
Lisa R. Barton,
Secretary to the Commission.

[FR Doc. 2017-22267 Filed 10-13-17; 8:45 am]

BILLING CODE 7020-02-P